DEPARTMENT OF DEFENSE

Office of the Secretary

Defense Intelligence Agency National Intelligence University Board of Visitors; Notice of Federal Advisory Committee Meeting

AGENCY: Department of Defense, Defense Intelligence Agency, National Intelligence University.

ACTION: Notice of closed meeting.

SUMMARY: The Department of Defense is publishing this notice to announce that the following Federal Advisory Committee meeting of the National Intelligence University Board of Visitors has been scheduled. The meeting is closed to the public.

DATES: Tuesday, January 27, 2015 (7:00 a.m. to 5:00 p.m.) and Wednesday, January 28, 2015 (8:00 a.m. to 12:00 p.m.).

ADDRESSES: National Intelligence University, Joint Base Anacostia-Bolling, Washington, DC 20340-5100.

FOR FURTHER INFORMATION CONTACT: Dr. David R. Ellison, President, DIA National Intelligence University, Washington, DC 20340-5100, Phone: (202) 231-3344.

SUPPLEMENTARY INFORMATION: Due to difficulties beyond the control of the Department of Defense, the Designated Federal Officer was unable to submit the Federal Register notice pertaining to the National Intelligence University Board of Visitors' meeting, scheduled for January 27, 2015, that ensured compliance with the requirements of 41 CFR § 102-3.150(a). Accordingly, the Advisory Committee Management Officer for the Department of Defense, waives the 15-calendar day notification requirement pursuant to 41 CFR § 102-3.150(b).

This meeting is being held pursuant to the provisions of Subsection (d) of Section 10 of Public Law 92-463, as amended by section 5 of Public Law 94-409.

Purpose: The Board will discuss several current critical intelligence issues and advise the Director, DIA, as to the successful accomplishment of the mission assigned to the National Intelligence University.

Agenda: The following topics are listed on the National Intelligence University Board of Visitors meeting agenda: AY 2014 Accreditation/Outcomes Assessment; College of Strategic Intelligence; School of Science and Technology Intelligence; Center for International Engagement; Office of Research; Outreach, Alumni, Foundation; Assessment Planning Roll-up; Plans, Programming, and Budget; Faculty Planning; Core Curriculum; Executive Session; Leadership Program; Cyber Program; Board Business: NI Scholars, Honorary Degrees, Meeting Schedule, Succession Planning.

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions. Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://www.facadatabase.gov/.

Dated: January 8, 2015.
Aaron Siegel,
Alternate OSD Federal Register Liaison Officer, Department of Defense.

[FR Doc. 2015-00343 Filed 1-12-15; 8:45 am]

BILLING CODE 5001-06-P